DEPARTMENT OF LABOR

Employment and Training Administration

[NAFTA-3805]

Avent Inc. Kimberly-Clark Corporation Tucson, AZ; Notice of Termination of Investigation

Pursuant to Section 221 of the Trade Act of 1974, an investigation was initiated on March 15, 2000, in response to a worker petition which was filed on behalf of workers at Avent Inc., Kimberly-Clark Corporation, Tucson, Arizona.

The petitioner has requested that the petition be withdrawn. Consequently further investigation in this case would serve no purpose, and the investigation has been terminated.

Signed in Washington, DC this 28th day of April, 2000.
Grant D. Beale,
Program Manager, Office of Trade Adjustment Assistance.

[FR Doc. 00-11826 Filed 5-10-00; 8:45 am]

BILLING CODE 4510-30-M